DEPARTMENT OF HOUSING AND URBAN DEVELOPMENT

[Docket No. FR-5849-N-08]

Notice of a Federal Advisory Committee Meeting Manufactured Housing Consensus Committee

AGENCY: Office of the Assistant Secretary for Housing—Federal Housing Commissioner, Department of Housing and Urban Development (HUD).

ACTION: Notice of a Federal Advisory committee meeting: Manufactured Housing Consensus Committee.

SUMMARY: This notice sets forth the schedule and proposed agenda for a meeting of the Manufactured Housing Consensus Committee (MHCC). The meeting is open to the public and the site is accessible to individuals with disabilities. The agenda provides an opportunity for citizens to comment on the business before the MHCC.

DATES: The meeting will be held on October 25 thru October 27, 2016, 9:00 a.m. to 5:00 p.m. Eastern Standard Time (EST) daily.

ADDRESSES: The meeting will be held at the Holiday Inn Washington—Capitol, 550 C Street SW., Washington, DC 20024.

FOR FURTHER INFORMATION CONTACT: Pamela Beck Danner, Administrator, Office of Manufactured Housing Programs, Department of Housing and Urban Development, 451 7th Street SW., Room 9166, Washington, DC 20410, telephone (202) 708-6423 (this is not a toll-free number). Persons who have difficulty hearing or speaking may access this number via TTY by calling the toll-free Federal Information Relay Service at (800) 877-8339.

SUPPLEMENTARY INFORMATION:

I. Background

Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation. The MHCC is deemed an advisory committee not composed of Federal employees.

II. Public Comments

Citizens wishing to comment on the business of the MHCC are encouraged to register by or before October 19, 2016, by contacting Home Innovation Research Labs; Attention: Kevin Kauffman, 400 Prince Georges Blvd., Upper Marlboro, MD 20774, or email to mhcc@homeinnovation.com or call (888) 602-4663. Written comments are encouraged. The MHCC strives to accommodate citizen comments to the extent possible within the time constraints of the meeting agenda. Advance registration is strongly encouraged. The MHCC will also provide an opportunity for public comment on specific matters before the MHCC.

III. Tentative Agenda

Tuesday, October 25, 2016

I. Call to Order—Chair & Designated Federal Officer (DFO)

II. Opening Remarks—Chair

A. Roll Call—Administering Organization (AO)

B. Introductions

i. HUD Staff

ii. Guests

C. Administrative Announcements—DFO and AO

III. Approve draft minutes from August 9, 2016, MHCC Meeting

IV. Update on approved proposals—HUD Staff

V. Subcommittee Reports to MHCC

A. Technical Systems Subcommittee

i. Log 113—NFPA 54 National Fuel Gas Code

ii. Log 114—UL 60335-2-40, Safety of Household and Similar Electrical Appliances, Part 2-34: Particular Requirements for Motor-Compressors

iii. Update about NFPA 70 Task Group recommendation

VI. Break

VII. Technical Systems Subcommittee Report—continued

VIII. Public Comment Period

IX. Lunch

X. Final Rule on Formaldehyde Presentation

XI. Break

XII. EPA final formaldehyde rule

A. Log 80—Secondary method testing, and HUD's draft proposed rule incorporating the EPA rule

XIII. Daily Wrap Up—DFO/AO

XIV. Adjourn

Wednesday, October 26, 2016

I. Reconvene Meeting—Chair & Designated Federal Officer (DFO)

II. Remarks—Chair

A. Roll Call—Administering Organization (AO)

III. Continue Review Current Log & Action Items (AI)—See Appendix A

IV. Break

V. HUD's recommended guidelines on foundation system requirements in freezing climates.

VI. Public Comment

VII. Lunch

VIII. Regulatory Enforcement Subcommittee

A. Log 135—Water supply testing procedures.

IX. Continue review of EPA final formaldehyde rule

A. Log 80—Secondary method testing, and HUD's draft proposed rule incorporating the EPA rule

X. Break

XI. Subcommittee Task Group Meeting Time Slot (only if necessary after MHCC has reviewed all Current Log and Action Items)

XII. Daily Wrap Up—DFO/AO

XIII. Adjourn

Thursday, October 27, 2016

I. Reconvene Meeting—Chair & Designated Federal Officer (DFO)

II. Remarks—Chair

A. Roll Call—Administering Organization (AO)

III. Review Current Log and Action Items (AI)—See Appendix A

IV. Break

V. Continue review of HUD's recommended guidelines for foundation systems in freezing climates.

VI. Lunch

VII. MHCC recommendations for foundation systems in freezing climates.

VIII. Public Comment

IX. Daily Wrap Up—DFO/AO

X. Adjourn

Dated: September 21, 2016.
Pamela Beck Danner,
Administrator, Office of Manufactured Housing Programs.

[FR Doc. 2016-23256 Filed 9-26-16; 8:45 am]

BILLING CODE 4210-67-P